ENVIRONMENTAL PROTECTION AGENCY

[OPP-2005-0199; FRL-7724-4]

Pesticide Product; Registration Approval

AGENCY: Environmental Protection Agency (EPA).

ACTION: Notice.

SUMMARY: This notice announces Agency approval of an application to register the pesticide product, Mycogen Brand B.t. moCry1F Insect Resistant Corn Seed and Florbac Slurry containing active ingredients not included in any previously registered product pursuant to the provisions of section 3(c)7 and 3(c)5 respectively of the Federal Insecticide, Fungicide, and Rodenticide Act (FIFRA), as amended.

FOR FURTHER INFORMATION CONTACT: The Regulatory Action Leader listed in the table in this unit:

File Symbol | Regulatory Action Leader | Mailing Address | Telephone Number/E-mail Address
68467-4 | Sharlene R. Matten | Biopesticides and Pollution Prevention Division (7511C), Office of Pesticides, Environmental Protection Agency, 1200 Pennsylvania Ave., NW., Washington, DC 20460-0001 | (703) 605-0514 matten.sharlene@epa.gov
73049-68 | Alan H. Reynolds | Do. | (703) 605-0515 reynolds.alan@epa.gov

SUPPLEMENTARY INFORMATION:

I. General Information

A. Does this Action Apply to Me?

You may be potentially affected by this action if you are an agricultural producer, food manufacturer, or pesticide manufacturer. Potentially affected entities may include, but are not limited to:

• Crop production (NAICS code 111)

• Animal production (NAICS code 112)

• Food manufacturing (NAICS code 311)

• Pesticide manufacturing (NAICS code 32532)

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the persons listed under FOR FURTHER INFORMATION CONTACT.

B. How Can I Get Copies of this Document and Other Related Information?

1. Docket. EPA has established an official public docket for this action under docket identification (ID) number OPP-2005-0199. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

In accordance with section 3(c)(2) of FIFRA, a copy of the approved label, the list of data references, the data and other scientific information used to support registration, except for material specifically protected by section 10 of FIFRA, are also available for public inspection. Requests for data must be made in accordance with the provisions of the Freedom of Information Act and must be addressed to the Freedom of Information Office (A-101), 1200 Pennsylvania Ave., NW., Washington, DC 20460-0001. The request should: Identify the product name and registration number and specify the data or information desired.

A paper copy of the fact sheet, which provides more detail on this registration, may be obtained from the National Technical Information Service (NTIS), 5285 Port Royal Rd., Springfield, VA 22161.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. Did EPA Approve the Application?

The Agency approved the application after considering all required data on risks associated with the proposed uses of Bacillus thuringiensis var. aizawai strain PS811 Cry1F insecticidal crystal protein and the genetic material necessary for its production (plasmid insert PHP12537) in Event DAS-06275-8 corn, and Bacillus thuringiensis var. aizawai strain NB 200, and information on social, economic, and environmental benefits to be derived from using them. Specifically, the Agency has considered the nature of the chemicals and their patterns of use, application methods and rates, and level and extent of potential exposure. Based on these reviews, the Agency was able to make basic health and safety determinations which show that uses of Bacillus thuringiensis var. aizawai strain PS811 Cry1F insecticidal crystal protein and the genetic material necessary for its production (plasmid insert PHP12537) in Event DAS-06275-8 corn, and Bacillus thuringiensis var. aizawai strain NB 200 when used in accordance with widespread and commonly recognized practice, will not generally cause unreasonable adverse effects on the environment.

III. Approved Application

1. EPA issued a notice, published in the Federal Register of September 1, 2004 (69 FR 53432) (FRL-7370-3), which announced that Mycogen Seeds, c/o Dow AgroSciences LLC, 9330 Zionsville Road, Indianapolis, IN 46268, had submitted an application to register the pesticide product, Mycogen Brand B.t. moCry1F Insect Resistant Corn Seed (EPA File Symbol 68467-U), a plant-incorporated protectant, containing Bacillus thuringiensis var. aizawai strain PS811 Cry1F insecticidal crystal protein and the genetic material necessary for its production (plasmid insert PHP12537) in Event DAS-06275-8. This product was not previously registered.

The Agency received one public comment in response to the September 1, 2004 notice. A private citizen objected to the registration of Bacillus thuringiensis moCry1F protein and the genetic material for its production (plasmid insert PHP 12537) in Event DAS-06275-8 corn, based on unspecified environmental and human health effects associated with genetically modified crops. The Agency understands the commenter's concerns. Pursuant to its authority under the Federal Insecticide, Fungicide, and Rodenticide Act, EPA conducted an assessment of this plant-incorporated protectant and concluded that it will pose no unreasonable adverse effects to human health or the environment.

This application was approved on May 27, 2005, as Mycogen Brand B.t. moCry1F Insect Resistant Corn Seed (EPA Registration Number 68467-4) for control of black cutworm, corn earworm, European corn borer, fall armyworm, Southwestern corn borer, and Western bean cutworm.

2. EPA issued a notice, published in the Federal Register of September 19, 2001 (66 FR 48256) (FRL-6794-5), which announced that Valent Biosciences Corporation, 870 Technology Way, Libertyville, IL 60048, had submitted an application to register the pesticide product, Florbac Slurry, a microbial insecticide (EPA File Symbol 73049-AI), containing Bacillus thuringiensis var. aizawai strain NB 200. This product was not previously registered.

This application was approved on June 10, 2005, as Florbac Slurry (EPA Registration Number 73049-68) for manufacturing use.

List of Subjects

Environmental protection, Chemicals, Pesticides and pests.

Dated: September 1, 2005.
Phil Hutton,
Acting Director, Biopesticides and Pollution Prevention Division, Office of Pesticide Programs.

[FR Doc. 05-18243 Filed 9-13-05; 8:45 am]

BILLING CODE 6560-50-S